DEPARTMENT OF ENERGY

Federal Energy Regulatory Commission

Combined Notice of Filings #1

Take notice that the Commission received the following electric corporate filings:

Docket Numbers: EC14-85-000.

Applicants: J.P. Morgan Ventures Energy Corporation, J.P. Morgan Commodities Canada Corporation, BE Alabama LLC, Mercuria Energy America, Inc.

Description: Joint Application for Authorization under Section 203 and Requests for Confidential Treatment and Waivers of J.P. Morgan Ventures Energy Corporation, et al.

Filed Date: 5/5/14.

Accession Number: 20140505-5276.

Comments Due: 5 p.m. ET 5/27/14.

Take notice that the Commission received the following electric rate filings:

Docket Numbers: ER11-2059-004.

Applicants: Midcontinent Independent System Operator, Inc.

Description: 2014-05-06 LTTR compliance filing to be effective 1/9/2011.

Filed Date: 5/6/14.

Accession Number: 20140506-5047.

Comments Due: 5 p.m. ET 5/27/14.

Docket Numbers: ER12-2366-001.

Applicants: Southwest Power Pool, Inc.

Description: Errata Filing—Compliance Filing Docket Nos. ER09-659-002 and EL 12-2-000 to be effective 7/31/2012.

Filed Date: 4/29/14.

Accession Number: 20140429-5221.

Comments Due: 5 p.m. ET 5/20/14.

Docket Numbers: ER13-618-003; ER12-2570-004.

Applicants: Westwood Generation, LLC, Panther Creek Power Operating, LLC.

Description: Notice of Non-Material Change in Status of Westwood Generation, LLC, et al.

Filed Date: 5/5/14.

Accession Number: 20140505-5274.

Comments Due: 5 p.m. ET 5/27/14.

Docket Numbers: ER14-1582-000.

Applicants: Midcontinent Independent System Operator, Inc.

Description: 2014-05-06_ATC D-T Update Batch 1 Supplement to be effective N/A.

Filed Date: 5/6/14.

Accession Number: 20140506-5038.

Comments Due: 5 p.m. ET 5/27/14.

Docket Numbers: ER14-1606-001.

Applicants: Cosima Energy, LLC.

Description: Amended MBR Tariff Filing to be effective 5/1/2014.

Filed Date: 5/6/14.

Accession Number: 20140506-5095.

Comments Due: 5 p.m. ET 5/27/14.

Docket Numbers: ER14-1690-000.

Applicants: Monterey SW LLC.

Description: Amendment to April 9, 2014 Monterey SW LLC tariff filing and Request for Shortened Comment Period.

Filed Date: 5/2/14.

Accession Number: 20140502-5252.

Comments Due: 5 p.m. ET 5/16/14.

Docket Numbers: ER14-1879-000.

Applicants: FirstEnergy Solutions Corp.

Description: FirstEnergy Solutions Corp. Reactive Power Rate Schedule FERC No. 1 to be effective 12/31/9998.

Filed Date: 5/5/14.

Accession Number: 20140505-5227.

Comments Due: 5 p.m. ET 5/27/14.

Docket Numbers: ER14-1880-000.

Applicants: Monongahela Power Company.

Description: Monongahela Power Co. Reactive Power Tariff Rate Schedule FERC No. 3 to be effective 12/31/9998.

Filed Date: 5/5/14.

Accession Number: 20140505-5259.

Comments Due: 5 p.m. ET 5/27/14.

Docket Numbers: ER14-1881-000.

Applicants: Midcontinent Independent System Operator, Inc.

Description: 2014-05-06_SA 2660 Pleasant Valley-GRE E&P Agreement (J278) to be effective 5/7/2014.

Filed Date: 5/6/14.

Accession Number: 20140506-5033.

Comments Due: 5 p.m. ET 5/27/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 6, 2014.
Kimberly D. Bose,
Secretary.

[FR Doc. 2014-11012 Filed 5-13-14; 8:45 am]

BILLING CODE 6717-01-P